DEPARTMENT OF TRANSPORTATION

Federal Aviation Administration

14 CFR Parts 91 and 93

[Docket No. FAA-2002-14149; SFAR No. 101]

RIN 2120—AH92

Special Air Traffic Rules in the Vicinity of Los Angeles International Airport

AGENCY: Federal Aviation Administration (FAA), DOT.

ACTION: Final rule.

SUMMARY: In this action, the FAA revises and codifies Special Federal Aviation Regulation (SFAR) No. 51-1, Special Flight Rules in the Vicinity of the Los Angeles International Airport. Specifically, this action changes the northern boundary of the Los Angeles Special Flight Rules Area (SFRA), established by SFAR No. 51-1, to align the area with the Los Angeles Class B airspace area revisions adopted in 1997. Also, this action revises the description of the SFRA airspace to clarify the requirement to operate at fixed altitudes. The FAA is taking this action to reduce the potential for climb/descent conflicts, to ensure compatibility with current traffic flows, and to increase overall system efficiency and safety.

DATES: This SFAR is effective December 25, 2003, and shall remain in effect until further notice.

FOR FURTHER INFORMATION CONTACT: Ken McElroy, Airspace and Rules Division, ATA-400, Office of Air Traffic Airspace Management, Federal Aviation Administration, 800 Independence Avenue SW, Washington, DC 20591; telephone (202) 267-8783.

SUPPLEMENTARY INFORMATION:

Availability of Rulemaking Documents

You can get an electronic copy of this document using the Internet by:

(1) Using the docket number of this rulemaking action to search the Department of Transportation's electronic Docket Management System (DMS) Web page (http://dms.dot.gov/search);

(2) Visiting the Office of Rulemaking's Web page at http://www.faa.gov/avr/arm/index.cfm; or

(3) Accessing the Government Printing Office's web page at http://www.access.gpo.gov/su_docs/aces/aces140.html.

You can also get a copy by submitting a request to the Federal Aviation Administration, Office of Rulemaking, ARM-1, 800 Independence Avenue SW., Washington, DC 20591, or by calling (202) 267-9680. Make sure to identify the amendment number or docket number of this rulemaking.

Anyone can search the electronic form of all comments received into any of our dockets by the name of the individual submitting the comment (or signing the comment, if submitted on behalf of an association, business, labor union, etc.). You may review DOT's complete Privacy Act statement in the Federal Register published on April 11, 2000 (Volume 65, Number 70; Pages 19477-78) or you may visit http://dms.dot.gov.

Small Business Regulatory Enforcement Fairness Act

The Small Business Regulatory Enforcement Fairness Act (SBREFA) of 1996 requires FAA to comply with small entity requests for information or advice about compliance with statutes and regulations within its jurisdiction. Therefore, any small entity that has a question regarding this document may contact its local FAA official, or the person listed under FOR FURTHER INFORMATION CONTACT. You can find out more about SBREFA on the Internet at, or by e-mailing us at 9-AWA-SBREFA@faa.gov.

Background/Related Rulemaking

The FAA issued SFAR No. 51-1, in February, 1988 to provide visual flight rule (VFR) pilots with a safe and direct north/south route through the Los Angeles (LAX) Terminal Control Area (TCA). Specifically, SFAR No. 51-1 allows pilots operating under VFR to fly through the Special Flight Rules Area (SFRA) without contacting air traffic control personnel provided specific conditions are met. The conditions include use of certain equipment and lights, operating below a maximum airspeed, and flying at fixed altitudes.

In 1993, the FAA reclassified airspace terminology and replaced the term TCA with Class B Airspace Area (56 FR 65638, December 17, 1991). In 1997, the FAA implemented modifications to the Los Angeles Class B airspace area. However, this action did not re-define the SFAR No. 51-1 airspace area (61 FR 66902, December 19, 1996).

On December 31, 2002, the FAA published in the Federal Register a notice of proposed rulemaking (NPRM) to codify SFAR No. 51-1, Special Flight Rules in the Vicinity of the Los Angeles International Airport. The proposed action would change the northern boundary of the Los Angeles SFRA, established by SFAR No. 51-1, and align the area with the Los Angeles Class B airspace area revisions adopted in 1997. The proposed action also revises the description of the SFRA airspace to make the requirement to operate at fixed altitudes clearer. The FAA proposed this action to reduce the potential for climb/descent conflicts, to ensure compatibility with current traffic flows, and to increase overall system efficiency and safety.

Interested parties were invited to participate in this rulemaking effort by submitting written communication on the proposal. The comment period for this action closed on February 14, 2003. The FAA received nine comments that are discussed below.

Discussion of Comments

One commenter responding to the NPRM requested that the FAA clarify the changes proposed. The commenter also questioned whether the northern boundary of the airspace was being moved further from LAX. Finally, the commenter stated that the constant altitude requirement is already understood and did not need any further clarification.

As discussed in the NPRM, one purpose of this rulemaking action is to re-align the northern boundary of the SFAR No. 51-1 area to coincide with the Los Angeles Class B airspace area revision that was implemented in 1997. As a result of the 1997 Class B airspace rulemaking action, the northern boundary of the Class B airspace area was moved south, closer to LAX. However, no similar action was taken to redefine the SFAR 51-1 area. This rulemaking action corrects that discrepancy and moves the SFAR area boundary south closer to LAX, realigning with the northern boundary of the Class B airspace area. This boundary move provides additional Class E airspace for VFR aircraft operations north of the SFAR area. Regarding the constant altitude requirement, the FAA biennial study of the LAX Class B operations concluded that the regulatory language description of the SFAR should be revised. The study revealed the SFAR language could be misunderstood by pilots to imply that they could climb or descend while in the area because it used the words “inclusive” and “between” when describing the boundaries. Removing the words “inclusive” and “between” does not change the current operating procedures within the LAX SFAR area.

The FAA received five comments from individuals concerning the single VOR radial that pilots must fly and a perceived lateral width reduction of the airspace. The commenters would like the guidance provided in the Los Angeles Terminal Area chart included in the regulation. This guidance allows pilots to fly in the airspace between the 405 Freeway and the shoreline.

The FAA disagrees. This action amends the northern boundary of the SFAR 51-1 area to coincide with the current Class B airspace area boundary; clarifies the requirement for pilots to operate at fixed altitudes within the area; and codifies the current procedures in SFAR 51-1 as a Special Air Traffic Rule in part 93. This action does not change the procedures or operating requirements, such as the requirement to operate on the Santa Monica 132° radial, as currently described in SFAR 51-1, or the guidance provided by the Terminal Area Chart. Additionally, the visual ground reference points remain unchanged and there is no lateral width reduction of the route.

Another commenter recommended the current LAX SFRA be converted to a VFR corridor identical to the San Diego VFR corridor. The commenter preferred a VFR corridor because a squawk (discreet altitude encoding transponder code) change to 1201 would not be necessary; aircraft would not be required to navigate on the same radial (instead could spread out within the corridor); and this corridor would standardize procedures since San Diego and LAX share the same ATC facility, So Cal approach.

The FAA disagrees. The SFAR requires pilots to adhere to specific flight requirements that would not be required in a VFR corridor. We cannot over emphasize that the flight procedures for the SFAR 51-1 are necessary to achieve a greater degree of safety given the high concentration of aircraft operations near LAX.

Comments received from the LAX Community Noise Roundtable, as well as the Aircraft Owners and Pilots Association, strongly support the FAA's efforts detailed in the NPRM.

Analysis of the Final Rule

This action adds a new Subpart G of title 14 of the Code of Federal Regulations (14 CFR part 93) to codify current special flight rules for certain aircraft operating under visual flight rules in that airspace of the Los Angeles Class B airspace area designated as the Los Angeles Special Flight Rules Area. This rule also removes SFAR No. 51-1 from 14 CFR part 91.

The new 14 CFR part 93 subpart G will contain the revised boundary of the Los Angeles SFRA, aligning the boundary with the 1997 Class B airspace revisions. The action will also designate fixed altitudes for aircraft operating in the SFRA to reduce the potential for climb/descent conflicts.

Paperwork Reduction Act

The Paperwork Reduction Act of 1995 (44 U.S.C. 3507(d)) requires that the FAA consider the impact of paperwork and other information collection burdens imposed on the public. The FAA has determined that there are no current or new information collection requirements associated with this rule.

International Compatibility

In keeping with U.S. obligations under the Convention on International Civil Aviation, it is FAA policy to comply with International Civil Aviation Organization (ICAO) Standards and Recommended Practices to the maximum extent practicable. The FAA has determined that there are no ICAO Standards and Recommended Practices that correspond to these regulations.

Economic Evaluation

Executive Order 12866, Regulatory Planning and Review, directs the FAA to assess both the costs and benefits of a regulatory change. The FAA is not allowed to propose or adopt a regulation unless we make a reasoned determination that the benefits of the intended regulation justify the costs. Our assessment of this rulemaking indicates that its economic impact is minimal. Because the costs and benefits of this action do not make it a “significant regulatory action” as defined in the Order, the FAA has not prepared a “regulatory evaluation,” which is the written cost/benefit analysis ordinarily required for all rulemaking under the DOT Regulatory Policies and Procedures. The FAA does not need to do a full evaluation where the economic impact of a rule is minimal. This rule codifies current flight restrictions for aircraft operating under VFR in the vicinity of Los Angeles International Airport, California. This action also revises the boundary of the LAX SFRA to align with Los Angeles Class B airspace area revisions adopted in 1997. It also revises the description of airspace area to clarify the fixed altitudes for aircraft operating in the SFRA and reduces the potential climb/descent conflicts.

The FAA determined that this rule does not result in incremental costs to persons operating under VFR in the LAX Class B airspace area. This assessment is based on the fact that this rule revises and codifies existing special flight rules. These rules are already applicable to flight operations in the LAX Area. The rule aligns the LAX SFRA boundaries with the LAX Class B airspace area and insures that climb/descent conflicts are eliminated in the SFRA. Therefore, the FAA determined this rule would be cost-beneficial.

Regulatory Flexibility Determination

The Regulatory Flexibility Act of 1980 (RFA) directs the FAA to fit regulatory requirements to the scale of the business, organizations, and governmental jurisdictions subject to the regulation. The FAA is required to determine whether a proposed or final action will have a “significant economic impact on a substantial number of small entities” as they are defined in the Act. If the FAA finds that the action will have a significant impact, we must do a “regulatory flexibility analysis.”

In view of the no cost impact of this rule, we have determined that this rule will not have a significant economic impact. Therefore, the FAA certifies that this action will not have a significant economic impact on a substantial number of small entities.

Trade Impact Assessment

The Trade Agreement Act of 1979 prohibits Federal agencies from establishing any standards or engaging in related activities that create unnecessary obstacles to the foreign commerce of the United States. Legitimate domestic objectives, such as safety, are not considered unnecessary obstacles. The statute also requires consideration of international standards and, where appropriate, that they be the basis for U.S. standards. In accordance with the above statute, the FAA has assessed the potential effect of this rule and has determined that it would have only a domestic impact and therefore create no obstacles to the foreign commerce of the United States.

Unfunded Mandates Assessment

The Unfunded Mandates Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.”

This final rule does not contain such a mandate. The requirements of Title II of the Act, therefore, do not apply.

Executive Order 3132, Federalism

The FAA has analyzed this final rule under the principles and criteria of Executive Order 13132, Federalism. The FAA has determined that this action will not have a substantial direct effect on the States, or the relationship between the national Government and the States, or on the distribution of power and responsibilities among the various levels of government, and therefore does not have federalism implications.

Plain Language

In response to the June 1, 1998 Presidential Memorandum regarding the use of plain language, we re-examined the writing style currently used in the development of regulations. The memorandum requires federal agencies to communicate clearly with the public. The FAA is interested in your comments on whether the style of this document is clear, and in any other suggestions you might have to improve the clarity of FAA communications that affect you. You can get more information about the Presidential memorandum and the plain language initiative at http:www.plainlanguage.gov.

Environmental Analysis

FAA Order 1050.1 defines FAA actions that may be categorically excluded from preparation of a National Environmental Policy Act (NEPA) environmental impact statement. In accordance with FAA Order 1050.1, this rulemaking action qualifies for a categorical exclusion.

Energy Impact

The energy impact of the rule,m has been assessed in accordance with the Energy Policy and Conservation Act (EPCA) Pub. L. 94-163, as amended (42 U.S.C. 6362) and FAA Order 1053.1. It has been determined that the final rule is not a major regulatory action under the provisions of the EPCA.

List of Subjects

14 CFR Part 91

Afghanistan, Agriculture, Air traffic control, Aircraft, Airmen, Airports, Aviation safety, Canada, Cuba, Ethiopia, Freight, Mexico, Noise control, Political candidates, Reporting and recordkeeping requirements, Yugoslavia.

14 CFR Part 93

Air traffic control, Airports, Alaska, Navigation (air), Reporting and recordkeeping requirements.

The Amendment

In consideration of the foregoing, the Federal Aviation Administration amends 14 CFR parts 91 and 93:

PART 91—GENERAL OPERATING AND FLIGHT RULES

1. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

2. Remove Special Federal Aviation Regulation No. 51-1 [SFAR]

SFAR No. 51-1—[Removed]

PART 93—SPECIAL AIR TRAFFIC RULES AND AIRPORT TRAFFIC PATTERNS

3. The authority citation for part 93 continues to read as follows:

Authority: 49 U.S.C. 106(g), 40103, 40106, 40109, 40113, 44502, 44514, 44701, 44719, 46301.

4. Add subpart G to part 93 to read as follows:

Subpart G—Special Flight Rules in the Vicinity of Los Angeles International Airport

Sec.
93.91 Applicability.
93.93 Description of area.
93.95 General operating procedures.
93.97 Operations in the SFRA.

§ 93.91 Applicability.

This subpart prescribes special air traffic rules for aircraft conducting VFR operations in the Los Angeles, California Special Flight Rules Area.

§ 93.93 Description of area.

The Los Angeles Special Flight Rules Area is designated as that part of Area A of the Los Angeles Class B airspace area at 3,500 feet above mean sea level (MSL) and at 4,500 feet MSL, beginning at Ballona Creek/Pacific Ocean (lat. 33°57′42″ N, long. 118°27′23″ W), then eastbound along Manchester Blvd. to the intersection of Manchester/405 Freeway (lat. 33°57′42″ N, long. 118°22′10″ W), then southbound along the 405 Freeway to the intersection of the 405 Freeway/lmperial Highway (lat. 33°55′51″ N, long. 118° 22′06″ W), then westbound along Imperial Highway to the intersection of Imperial Highway/Pacific Ocean (lat. 33°55′51″ N, long. 118°26′05″ W), then northbound along the shoreline to the point of beginning.

§ 93.95 General operating procedures.

Unless otherwise authorized by the Administrator, no person may operate an aircraft in the airspace described in § 93.93 unless the operation is conducted in accordance with the following procedures:

(a) The flight must be conducted under VFR and only when operation may be conducted in compliance with § 91.155(a) of this chapter.

(b) The aircraft must be equipped as specified in § 91.215(b) of this chapter replying on code 1201 prior to entering and while operating in this area.

(c) The pilot shall have a current Los Angeles Terminal Area Chart in the aircraft.

(d) The pilot shall operate on the Santa Monica very high frequency omni-directional radio range (VOR) 132° radial.

(e) Aircraft navigating in a southeasterly direction shall be in level flight at 3,500 feet MSL.

(f) Aircraft navigating in a northwesterly direction shall be in level flight at 4,500 feet MSL.

(g) Indicated airspeed shall not exceed 140 knots.

(h) Anti-collision lights and aircraft position/navigation lights shall be on. Use of landing lights is recommended.

(i) Turbojet aircraft are prohibited from VFR operations in this area.

§ 93.97 Operations in the SFRA.

Notwithstanding the provisions of § 91.131(a) of this chapter, an air traffic control authorization is not required in the Los Angeles Special Flight Rules Area for operations in compliance with § 93.95. All other provisions of § 91.131 of this chapter apply to operations in the Los Angeles Special Flight Rules Area.

Issued in Washington, DC, on July 3, 2003.
Marion C. Blakely,
Administrator.

[FR Doc. 03-17460 Filed 7-9-03; 8:45 am]

BILLING CODE 4910-13-P